DEPARTMENT OF LABOR

Employment and Training Administration

[TA-W-54,538]

Yorkshire Americas, Inc., Became Known as Albanail Dyestuff, Now Known as Greenville Colorants, Greenville, SC; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on April 15, 2004, applicable to workers of Yorkshire Americas, Inc., Greenville, South Carolina. The notice was published in the Federal Register on May 24, 2004 (69 FR 29577).

At the request of the State agency, the Department reviewed the certification for workers of the subject firm. The workers were engaged in the production of dyes and chemicals for textiles.

New information shows that in September 2004, Yorkshire Americas, Inc. became known as Albanail Dyestuff, and in February 2005, became known as Greenville Colorants due to changes in ownership. Workers separated from the subject firm had their wages reported under two separate unemployment insurance (UI) tax accounts for Albanail Dyestuff and Greenville Colorants.

Accordingly, the Department is amending this certification to properly reflect this matter.

The intent of the Department's certification is to include all workers of Yorkshire Americas, Inc. who were adversely affected by increased imports.

The amended notice applicable to TA-W-54,538 is hereby issued as follows:

“All workers of Yorkshire Americas, Inc, which became known as Albanail Dyestuff, and is now known as Greenville Colorants, Greenville, South Carolina, who became totally or partially separated from employment on or after March 17, 2003, through April 15, 2006, are eligible to apply for adjustment assistance under Section 223 of the Trade Act of 1974, and are also eligible to apply for alternative trade adjustment assistance under Section 246 of the Trade Act of 1974.”

Signed at Washington, DC, this 3rd day of August 2005.
Richard Church,
Certifying Officer, Division of Trade Adjustment Assistance.

[FR Doc. E5-4390 Filed 8-11-05; 8:45 am]

BILLING CODE 4510-30-P